ENVIRONMENTAL PROTECTION AGENCY

40 CFR Part 52

[EPA-R01-OAR-2020-0029; FRL-10010-00-Region 1]

Air Plan Approval; New Hampshire; Negative Declaration for the Oil and Gas Industry; Withdrawal of Direct Final Rule

AGENCY: Environmental Protection Agency (EPA).

ACTION: Withdrawal of direct final rule.

SUMMARY: Due to the receipt of adverse comments, the Environmental Protection Agency (EPA) is withdrawing the April 6, 2020 direct final rule approving a State Implementation Plan (SIP) revision submitted by the State of New Hampshire. New Hampshire's SIP revision provided a negative declaration for EPA's 2016 Control Technique Guideline for the oil and gas industry. This action is being taken in accordance with the Clean Air Act.

DATES: The direct final rule published at 85 FR 19087 on April 6, 2020 is withdrawn effective June 5, 2020.

FOR FURTHER INFORMATION CONTACT: Bob McConnell, Environmental Engineer, Air and Radiation Division (Mail Code 05-2), U.S. Environmental Protection Agency, Region 1, 5 Post Office Square, Suite 100, Boston, Massachusetts, 02109-3912; (617) 918-1046. mcconnell.robert@epa.gov.

SUPPLEMENTARY INFORMATION: In the direct final rule, EPA stated that if adverse comments were submitted by May 6, 2020, the rule would be withdrawn and not take effect. EPA received adverse comments prior to the close of the comment period and, therefore, is withdrawing the direct final rule. EPA will address the comments in a subsequent final action based upon the proposed rule also published on April 6, 2020 (85 FR 19116). EPA will not institute a second comment period on this action.

List of Subjects in 40 CFR Part 52

Environmental protection, Air pollution control, Incorporation by reference, Ozone, Reporting and recordkeeping requirements, Volatile organic compounds.

Dated: May 15, 2020.
Dennis Deziel,
Regional Administrator, EPA Region 1.

PART 52—APPROVAL AND PROMULGATION OF IMPLEMENTATION PLANS

Accordingly, the amendments to 40 CFR 52.1520 published on April 6, 2020 (85 FR 19087), are withdrawn effective June 5, 2020.

[FR Doc. 2020-10917 Filed 6-4-20; 8:45 am]

BILLING CODE 6560-50-P